DEPARTMENT OF TRANSPORTATION

Pipeline and Hazardous Materials Safety Administration

[Docket No. PHMSA-2007-28993]

Pipeline Safety: Adequacy of Internal Corrosion Regulations for Hazardous Liquid Pipelines

AGENCY: Pipeline and Hazardous Materials Safety Administration (PHMSA), U.S. Department of Transportation (DOT).

ACTION: Notice of availability of materials; request for comments.

SUMMARY: This notice announces the availability of materials, including a briefing paper prepared for PHMSA's Technical Hazardous Liquid Pipeline Safety Standards Committee (THLPSSC) and data on risks posed by internal corrosion on hazardous liquid pipelines. PHMSA is preparing a report to Congress on the adequacy of the internal corrosion regulations for hazardous liquid pipelines. Participants at a meeting of the THLPSSC discussed issues involved in examining the adequacy of the regulations and requested additional data. PHMSA requests public comment on these matters.

DATES: Submit comments by October 9, 2007.

ADDRESSES: Comments should reference Docket No. PHMSA-2007-28993 and may be submitted in the following ways:

• E-Gov Web site: http://www.regulations.gov. This Web site allows the public to enter comments on any Federal Register notice issued by any agency. Follow the instructions for submitting comments.

• Fax: 1-202-493-2251.

• Mail: Docket Management System: U.S. Department of Transportation, Docket Operations, M-30, Room W12-140, 1200 New Jersey Avenue, SE., Washington, DC 20590-0001.

• Hand Delivery: DOT Docket Management System, West Building Ground Floor, Room W12-140, 1200 New Jersey Avenue, SE., Washington, DC 20590-0001 between 9 a.m. and 5 p.m., Monday through Friday, except Federal holidays.

Instructions: Identify the docket number, PHMSA-2007-28993, at the beginning of your comments. If you submit your comments by mail, submit two copies. To receive confirmation that PHMSA received your comments, include a self-addressed stamped postcard. Internet users may submit comments at http://www.regulations.gov.

Note: Comments are posted without changes or edits to http://www.regulations.gov, including any personal information provided. There is a privacy statement published on http://www.regulations.gov.

FOR FURTHER INFORMATION CONTACT: Barbara Betsock at (202) 366-4361, or by e-mail at barbara.betsock@dot.gov.

SUPPLEMENTARY INFORMATION: The Pipeline Inspection, Protection, Enforcement, and Safety Act of 2006 directs PHMSA to review the internal corrosion regulations in subpart H of 49 CFR part 195 to determine if they are adequate to ensure adequate protection of the public and environment and to report to Congress on the results of the review. As an initial step in the review, PHMSA consulted the THLPSSC at its meeting on July 24, 2007. The briefing paper prepared for the committee members contains preliminary data on risk history as well as questions relating to the internal corrosion regulations. This briefing paper is posted on PHMSA's pipeline Web site (http://ops.dot.gov) and has been placed in the docket.

At the meeting, PHMSA officials committed to gathering additional data responding to questions posed by the committee members. PHMSA has updated the data and included data responsive to the committee members. This data is also posted on the pipeline Web site and contained in the docket.

PHMSA requests comments on the adequacy of the internal corrosion regulations and answers to the questions posed in the briefing paper. PHMSA will use these comments in its review of the internal corrosion regulations.

Authority: 49 U.S.C. 60102, 60115, 60117: Sec. 22, Pub. L. 109-468, 120 Stat. 3499.

Issued in Washington, DC on August 27, 2007.
Jeffrey D. Wiese,
Associate Administrator for Pipeline Safety.

[FR Doc. E7-17538 Filed 9-5-07; 8:45 am]

BILLING CODE 4910-60-P